DEPARTMENT OF JUSTICE

Bureau of Justice Statistics

[OJP (BJS)-1318]

National Criminal History Improvement Program (NCHIP)

AGENCY: Bureau of Justice Statistics, Office of Justice Programs, Justice.

ACTION: Notice of program plan.

SUMMARY: The Bureau of Justice Statistics (BJS) is publishing this notice to announce the continuation of the National Criminal History Improvement Program (NCHIP) in Fiscal Year 2001. Copies of this announcement can also be found on the Internet at http://www.ojp.usdoj.gov/bjs/.

FOR FURTHER INFORMATION CONTACT: Carol G. Kaplan, Program Manager, Bureau of Justice Statistics, 810 7th Street, NW, Washington, DC, 20531; Phone (202) 307-0759 [this is not a toll free number]; Email: Carol.Kaplan@usdoj.gov

SUPPLEMENTARY INFORMATION: The NCHIP program was initiated in 1995 as an umbrella program encompassing evolving efforts to support State activities relating to the establishment of records systems and the collection and use of criminal history and related records. The goal of the NCHIP award program is to improve the Nation's public safety by enhancing the quality, completeness and accessibility of the Nation's criminal history and sex offender record systems and the extent to which such records can be used and analyzed for criminal justice and authorized noncriminal justice purposes.

A total of $44,000,000 was appropriated under the Crime Identification Technology Act in FY 2001 to cover NCHIP activities. Each eligible State and territory must submit an application by May 31, 2001 to be considered for funding from the FY 2001 appropriation. NCHIP awards are expected to be made by September 30, 2001.

Dated: April 6, 2001.
Lawrence A. Greenfeld,
Acting Director, Bureau of Justice Statistics.

[FR Doc. 01-9186 Filed 4-18-01; 8:45 am]

BILLING CODE 4410-18-P